ENVIRONMENTAL PROTECTION AGENCY

[EPA-HQ-OPP-2022-0162; FRL-9766-01-OCSPP]

Pesticide Experimental Use Permit; Receipt of Application; Comment Request March 2022

AGENCY: Environmental Protection Agency (EPA).

ACTION: Notice.

SUMMARY: This notice announces EPA's receipt of an application 95699-EUP-R from NewLeaf Symbiotics, Inc., requesting an experimental use permit (EUP) for the Methylorubrum extorquens strain NLS0042. The Agency has determined that the permit may be of regional and national significance. Therefore, because of the potential significance, EPA is seeking comments on this application. This notice also announces EPA's receipt of an application 94614-EUP-R from GreenLight Biosciences, Inc., requesting an experimental use permit (EUP) for Ledprona (CAS No. 2433753-68-3). The Agency has determined that the permit may be of regional and national significance. Therefore, because of the potential significance, EPA is seeking comments on this application.

DATES: Comments must be received on or before May 31, 2022.

ADDRESSES: Submit your comments, identified by docket identification (ID) number EPA-HQ-OPP-2022-0162, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Charles Smith, Biopesticides and Pollution Prevention Division (7511M), Office of Pesticide Programs, Environmental Protection Agency, 1200 Pennsylvania Ave. NW, Washington, DC 20460-0001; main telephone number: (202) 566-2427; email address: BPPDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What action is the Agency taking?

Under section 5 of the Federal Insecticide, Fungicide and Rodenticide Act (FIFRA), 7 U.S.C. 136c, EPA can allow manufacturers to field test pesticides under development. Manufacturers are required to obtain an EUP before testing new pesticides or new uses of pesticides if they conduct experimental field tests on 10 acres or more of land or one acre or more of water.

Pursuant to 40 CFR 172.11(a), the Agency has determined that the following EUP application may be of regional and national significance, and therefore is seeking public comment on the EUP application:

Experimental Use Permit Number: 95699-EUP-R. Docket ID Number: EPA-HQ-OPP-2022-0232. Submitter: NewLeaf Symbiotics, Inc., 1005 North Warson Road, St. Louis, MO 63132. Pesticide Chemical: Methylorubrum extorquens strain NLS0042. Summary of Request: NewLeaf Symbiotics, Inc. is proposing to use 69 pounds of a product, Terrasym 250 CRW, that contains the active ingredient Methylorubrum extorquens strain NLS0042 over 1000 acres during the November 2022 to November 2023 growing season on corn seeds and corn fields in Colorado, Indiana, Illinois, Iowa, Kansas, Michigan, Minnesota, Missouri, Nebraska, Ohio, South Dakota, and Wisconsin to generate product performance data to support a future FIFRA section 3 registration against corn rootworm. Contact: BPPD.

Experimental Use Permit Number: 94614-EUP-R. Docket ID Number: EPA-HQ-OPP-2021-0270. Submitter: GreenLight Biosciences, Inc. 200 Boston Ave., Suite 1000, Medford, MA 02155. Pesticide Chemical: Ledprona (CAS No. 2433753-68-3). Summary of Request: GreenLight Biosciences, Inc. is proposing to test Ledprona (CAS No. 2433753-68-3) double-stranded RNA beginning in April of 2022 until April 2023. The active ingredient is proposed to be applied by aerial, ground, and chemigation methods. The use sites include the following states: Idaho, Maine, Michigan, Minnesota, New York, North Dakota, Oregon, Virginia, Wisconsin, and Washington. The maximum quantity of pesticide requested is a total of 6,360 grams of active ingredient over a total of 348 acres. The proposed experiments are to evaluate the performance of the product using different application methods, use at commercial scale compared to standard tools, performance of the product in integrated pest management programs, yield effects with use of the product, performance in various environmental conditions, and effect of the product on different stages of the target pest. Contact: BPPD.

Authority: 7 U.S.C. 136 et seq.

Dated: April 18, 2022.
Delores Barber,
Director, Information Technology and Resources Management Division, Office of Program Support.

[FR Doc. 2022-09146 Filed 4-28-22; 8:45 am]

BILLING CODE 6560-50-P